ENVIRONMENTAL PROTECTION AGENCY

[FRL-9953-32-OA]

Notification of a Public Teleconference and Meeting of the Science Advisory Board Chemical Assessment Advisory Committee Augmented for the Review of EPA's Draft Hexahydro-1,3,5-trinitro-1,3,5-triazine (RDX) IRIS Assessment

AGENCY: Environmental Protection Agency (EPA).

ACTION: Notice.

SUMMARY: The Environmental Protection Agency (EPA or Agency) Science Advisory Board (SAB) Staff Office announces two meetings of the Chemical Assessment Advisory Committee Augmented for the Review of the Draft Hexahydro-1,3,5-trinitro-1,3,5-triazine (RDX) IRIS Assessment (CAAC Augmented for RDX). A public teleconference will be held to learn about the development of the Agency's draft IRIS Toxicological Review of RDX (September, 2016) and to discuss draft charge questions for the peer review of the document. A face-to-face meeting will be held in the Washington, DC metro area to conduct a peer review of the agency's draft IRIS Toxicological Review of RDX (External Review Draft—September 2016).

DATES: The public teleconference will be held on Thursday, November 17, 2016, from 2:00 p.m. to 5:00 p.m. (Eastern Standard Time). The public face-to-face meeting will be held on Monday, December 12, 2016 from 9:00 a.m. to 5:00 p.m., (Eastern Standard Time); Tuesday, December 13, 2016 from 8:30 a.m. to 5:00 p.m.; and Wednesday, December 14, 2016, from 8:30 a.m. to 1:00 p.m. (Eastern Standard Time).

ADDRESSES: The public teleconference will be conducted by telephone only. The public face-to-face meeting will be held at Milken Institute School of Public Health, Convening Center Room, George Washington University, 950 New Hampshire Ave. NW., Washington, DC 20052.

FOR FURTHER INFORMATION CONTACT: Any member of the public wishing further information regarding this meeting may contact Dr. Diana Wong, Designated Federal Officer (DFO), SAB Staff Office, by telephone at (202) 564-2049 or via email at wong.diana-m@epa.gov. General information concerning the SAB can be found at http://www.epa.gov/sab.

SUPPLEMENTARY INFORMATION: Background: The SAB was established pursuant to the Environmental Research, Development, and Demonstration Authorization Act (ERDAA), codified at 42 U.S.C. 4365, to provide independent scientific and technical advice to the Administrator on the technical basis for Agency positions and regulations. The SAB is a Federal Advisory Committee chartered under the Federal Advisory Committee Act (FACA), 5 U.S.C., App. 2. The SAB and Augmented CAAC will comply with the provisions of FACA and all appropriate SAB Staff Office procedural policies. Pursuant to FACA and EPA policy, notice is hereby given that the SAB CAAC Augmented for RDX will hold a public teleconference and a public face-to-face meeting. The purpose of the teleconference is to learn about the development of the agency's draft IRIS Toxicological Review of Hexahydro-1,3,5-trinitro-1,3,5-triazine (RDX) (External Review Draft—September 2016) and to discuss the draft charge questions for the peer review of the document. The purpose of the face-to-face meeting is to conduct a peer review of the agency's draft IRIS Toxicological Review of Hexahydro-1,3,5-trinitro-1,3,5-triazine (RDX) (External Review Draft—September 2016). The CAAC Augmented for RDX will provide advice to the Administrator through the chartered SAB.

EPA's Office of Research and Development (ORD) requested that the SAB conduct a peer review of the draft IRIS Toxicological Review of Hexahydro-1,3,5-trinitro-1,3,5-triazine (RDX) (External Review Draft—September 2016). The EPA SAB Staff Office augmented the SAB CAAC with subject matter experts to provide advice through the chartered SAB regarding this IRIS assessment. Additional information about this SAB advisory activity can be found at the following URL: https://yosemite.epa.gov/sab/sabproduct.nsf/fedrgstr_activites/IRIS%20RDX?OpenDocument.

Technical Contacts: Any technical questions concerning EPA's draft IRIS Toxicological Review of Hexahydro-1,3,5-trinitro-1,3,5-triazine (RDX) (External Review Draft—September 2016) should be directed to Gina Perovich by telephone at 703-347-8656 or by email at perovich.gina@epa.gov

Availability of Meeting Materials: Prior to the meeting, the review documents, meeting agenda and other materials will be accessible on the meeting page on the SAB Web site at http://www.epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of this advisory activity, for the group conducting the activity, for the SAB to consider during the advisory process. Input from the public to the SAB will have the most impact if it provides specific scientific or technical information or analysis for SAB committees and panels to consider or if it relates to the clarity or accuracy of the technical information. Members of the public wishing to provide comment should contact the DFO directly.

Oral Statements: In general, individuals or groups requesting an oral presentation on a public teleconference will be limited to three minutes and an oral presentation at the face-to-face meeting will be limited to five minutes. Interested parties wishing to provide comments should contact Dr. Diana Wong, DFO (preferably via email), at the contact information noted above, by November 10, 2016 to be placed on the list of public speakers for the teleconference and by December 5, 2016 to be placed on the list of public speakers for the face-to-face meeting.

Written Statements: Written statements will be accepted throughout the advisory process; however, for timely consideration by Committee/Panel members, statements should be supplied to the DFO (preferably via email) at the contact information noted above by November 10, 2016 for the teleconference and by December 5, 2016 for the face-to-face meeting. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Diana Wong at the contact information provided above. To request accommodation of a disability, please contact Dr. Wong preferably at least ten days prior to the meeting, to give EPA as much time as possible to process your request.

Dated: September 22, 2016.
Khanna Johnston,
Acting Deputy Director, EPA Science Advisory Board Staff Office.

[FR Doc. 2016-23597 Filed 9-28-16; 8:45 am]

BILLING CODE 6560-50-P